DEPARTMENT OF AGRICULTURE

Animal and Plant Health Inspection Service

7 CFR Part 331

9 CFR Part 121

[Docket No. APHIS-2014-0095]

RIN 0579-AE08

Agricultural Bioterrorism Protection Act of 2002; Biennial Review and Republication of the Select Agent and Toxin List; Amendments to the Select Agent and Toxin Regulations; Delay of Effective Date

AGENCY: Animal and Plant Health Inspection Service, USDA.

ACTION: Final rule; delay of effective date.

SUMMARY: On January 19, 2017, we published a final rule amending the select agent and toxin regulations in several ways, including the addition of provisions to address the inactivation of select agents, provisions addressing biocontainment and biosafety, and clarification of regulatory language concerning security, training, incident response, and records. In this document, we are delaying the effective date of that final rule.

DATES: The effective date of the final rule published on January 19, 2017 (82 FR 6197), is delayed until March 21, 2017.

FOR FURTHER INFORMATION CONTACT: Mr. Stephen O'Neill, Chief, Regulatory Analysis and Development, PPD, APHIS, 4700 River Road Unit 118, Riverdale, MD 20737-1234; (301) 851-3175.

SUPPLEMENTARY INFORMATION: On January 19, 2017, the Animal and Plant Health Inspection Service (APHIS) published a final rule (82 FR 6197-6210) to amend the select agent and toxin regulations in several ways, including the addition of provisions to address the inactivation of select agents, provisions addressing biocontainment and biosafety, and clarification of regulatory language concerning security, training, incident response, and records. In this document, we are delaying the effective date until March 21, 2017, in accordance with guidance issued January 20, 2017, intended to provide the new Administration an adequate opportunity to review new and pending regulations.

To the extent that 5 U.S.C. 553(b)(A) applies to this action, it is exempt from notice and comment for good cause and the reasons cited above. APHIS finds that notice and solicitation of comment regarding the brief extension of the effective date for the final regulation are impracticable, unnecessary, or contrary to the public interest pursuant to 5 U.S.C. 553(b)(B). APHIS also believes that affected entities need to be informed as soon as possible of the extension and its length in order to plan and adjust their implementation process accordingly.

Authority: 7 U.S.C. 8401; 7 CFR 2.22, 2.80, and 371.3.

Done in Washington, DC, this 10th day of February 2017.
Michael C. Gregoire,
Acting Administrator, Animal and Plant Health Inspection Service.

[FR Doc. 2017-03125 Filed 2-15-17; 8:45 am]

BILLING CODE 3410-34-P